NATIONAL ARCHIVES AND RECORDS ADMINISTRATION

[NARA-2022-029]

Freedom of Information Act (FOIA) Advisory Committee Meeting

AGENCY: Office of Government Information Services (OGIS), National Archives and Records Administration (NARA).

ACTION: Notice of Federal advisory committee meeting.

SUMMARY: We are announcing an upcoming Freedom of Information Act (FOIA) Advisory Committee meeting in accordance with the Federal Advisory Committee Act and the second United States Open Government National Action Plan.

DATES: The meeting will be on March 10, 2022, from 10 a.m. to 1 p.m. Eastern Time (ET). You must register by 11:59 p.m. ET March 8, 2022, to attend the meeting. (See registration information below.)

Location: This meeting will be a virtual meeting. We will send access instructions to those who register according to the instructions below.

FOR FURTHER INFORMATION CONTACT: Kirsten Mitchell, Designated Federal Officer for this committee, by email at foia-advisory-committee@nara.gov, or by telephone at 202-741-5775.

SUPPLEMENTARY INFORMATION: Agenda and meeting materials: We will post all meeting materials at https://www.archives.gov/ogis/foia-advisory-committee/2020-2022-term. This will be the seventh meeting of the 2020-2022 committee term. The purpose of this meeting is to hear updates and consider any draft recommendations from the four subcommittees: Classification, Legislation, Process, and Technology.

Procedures: This virtual meeting is open to the public in accordance with the Federal Advisory Committee Act (5 U.S.C. app. 2). You must register in advance (see deadline in Dates section above) through Eventbrite at https://foiaac-mtg-mar-9-2022.eventbrite.com if you wish to offer oral comments during the public comment period of the meeting. You must provide an email address so that we can provide you access information. To request additional accommodations (e.g., a transcript or closed captioning), email foia-advisory-committee@nara.gov or call 202-741-5775.

Tasha Ford,
Committee Management Officer.

[FR Doc. 2022-02792 Filed 2-9-22; 8:45 am]

BILLING CODE 7515-01-P